DEPARTMENT OF COMMERCE

International Trade Administration

Notice of Scope Rulings

AGENCY: Enforcement and Compliance, International Trade Administration, Department of Commerce.

DATES: Applicable May 28, 2021

SUMMARY: The Department of Commerce (Commerce) hereby publishes a list of scope rulings and anti-circumvention determinations made during the period January 1, 2021, through March 31, 2021. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce's regulations provide that it will publish in the Federal Register a list of scope rulings on a quarterly basis.¹ Our most recent notification of scope rulings was published on March 4, 2020.² This current notice covers all scope rulings and anti-circumvention determinations made by Enforcement and Compliance between January 1, 2021, and March 31, 2021.

¹ See 19 CFR 351.225(o).

² See Notice of Scope Rulings, 86 FR 12629 (March 4, 2021).

Scope Rulings Made January 1, 2021 Through March 31, 2021

Canada

A-122-857 and C-122-858: Certain Softwood Lumber Products From Canada

Requestor: The Government of Canada. Identified cedar shakes and shingles are not covered by the scope of the antidumping and countervailing duty orders on certain softwood lumber products from Canada because prior relevant scope rulings, the scope language of the orders, and the ITC's final import injury determination, indicate that cedar shakes and shingles were not intended to be covered by the scope of the orders; March 12, 2021.

A-122-857 and C-122-858: Certain Softwood Lumber Products From Canada

Requestor: Teal Cedar Products Ltd. and Columbia River Shake & Shingle Ltd DBA The Teal Jones Group (collectively, the Teal Jones Group). The Teal Jones Group's cedar shakes and shingles are not covered by the scope of the antidumping and countervailing duty orders on certain softwood lumber products from Canada because they meet the physical description of merchandise previously determined to be outside the scope of the orders; March 15, 2021.

India

A-533-885 and C-533-886: Polyester Textured Yarn From India

Requestor: American & Efird LLC. Wildcat Plus Tex 35 Sewing Thread is covered by the scope of the antidumping and countervailing duty orders on polyester textured yarn from India because the imported product is a form of polyester textured yarn and the scope is expressly broad to include all forms of polyester textured yarn, regardless of surface texture or appearance, yarn density and thickness, number of filaments, number of plies, finish, cross section, color, dye method, texturing method, or packing method; March 22, 2021.

Mexico

A-201-836: Light-Walled Rectangular Pipe and Tube (LWRPT) From Mexico

Requestor: Maquilacero S.A. de C.V. Two types of tubing for intermediate bulk container cages are outside the scope of the antidumping duty order on LWRPT from Mexico because the products do not have a rectangular (including square) cross section; February 9, 2021.

People's Republic of China (China)

A-570-928: Uncovered Innerspring Units From China

Requestor: New-Tec Integration Xiamen Co., Ltd. Individual spring modules, which are sold/packaged as individual springs, do not meet the description of subject merchandise covered by the order, i.e., innerspring units which consist of multiple springs joined together in the shape and size of a mattress; January 12, 2021.

A-570-967 and C-570-968: Aluminum Extrusions From China

Requestor: WKW Erbsloeh North America LLC. Certain rear quarter finishers and rubber seals are not covered by the scope of the antidumping and countervailing duty orders on aluminum extrusions from China because they do not contain extruded aluminum. Certain waist finishers, belt moldings, and outer waist belts are covered by the scope of the antidumping and countervailing duty orders on aluminum extrusions from China because they are not fully and permanently assembled and completed at the time of entry; January 28, 2021.

A-570-967 and C-570-968: Aluminum Extrusions From China

Requestor: Phoenix Folding Door Co. Twelve models of folding door kits are not covered by the scope of the antidumping and countervailing duty orders on aluminum extrusions from China because they meet the criteria for exclusion as finished goods kits; February 22, 2021.

A-570-097 and C-570-098: Polyester Textured Yarn From China

Requestor: American & Efird LLC. Wildcat Plus Tex 35 Sewing Thread is covered by the scope of the antidumping and countervailing duty orders on polyester textured yarn from China because the imported product is a form of polyester textured yarn and the scope is expressly broad to include all forms of polyester textured yarn, regardless of surface texture or appearance, yarn density and thickness, number of filaments, number of plies, finish, cross section, color, dye method, texturing method, or packing method; March 22, 2021.

Notification to Interested Parties

Interested parties are invited to comment on the completeness of this list of completed scope inquiries and anti-circumvention determinations made during the period January 1, 2021 through March 31, 2021. Any comments should be submitted to James Maeder, Deputy Assistant Secretary for AD/CVD Operations, Enforcement and Compliance, International Trade Administration, via email to CommerceCLU@trade.gov.

This notice is published in accordance with 19 CFR 351.225(o).

Dated: May 25, 2021.
James Maeder,
Deputy Assistant Secretary for Antidumping and Countervailing Duty Operations.

[FR Doc. 2021-11374 Filed 5-27-21; 8:45 am]

BILLING CODE 3510-DS-P